FEDERAL MARITIME COMMISSION

Meeting; Sunshine Act

Agency Holding the Meeting: Federal Maritime Commission.

Time and Date: February 11, 2009—10 a.m.

Place: 800 North Capitol Street, NW., First Floor Hearing Room, Washington, DC.

Status: A portion of the meeting will be in Open Session and the remainder of the meeting will be in Closed Session.

Matters to be Considered:

Open Session

1. Docket No. 02-15 Passenger Vessel Financial Responsibility—Request of Commissioner Brennan.

2. Foreign Travel Authorization for the 2009 Global Liner Shipping Conference.

3. 2008 Funding for Purchase and Installation of Media Equipment for Commission Offices.

4. 2008 Federal Human Capital Survey Results.

Closed Session

1. Docket No. 02-04: Anchor Shipping Co. v. Alianca Navegacao e Logistica Ltda et al.

2. FMC Agreement No. 201199: Port Fee Services Agreement.

3. Internal Administrative Practices and Personnel Matters.

FOR FURTHER INFORMATION CONTACT: Karen V. Gregory, Assistant Secretary, (202) 523-5725.

Karen V. Gregory,
Secretary.

[FR Doc. E9-2638 Filed 2-4-09; 4:15 pm]

BILLING CODE 6730-01-P